DEPARTMENT OF TRANSPORTATION

Maritime Administration

[Docket No. MARAD-2019-0027]

Request for Comments on the Renewal of a Previously Approved Information Collection: Ocean Shipments Moving Under Export-Import Bank Financing

AGENCY: Maritime Administration, DOT

ACTION: Notice and request for comments.

SUMMARY: In compliance with the Paperwork Reduction Act of 1995, this notice announces that the Information Collection Request (ICR) abstracted below is being forwarded to the Office of Management and Budget (OMB) for review and comments. This collection of information is necessary for MARAD to fulfill its legislative requirement to monitor the percentage of ocean freight revenues/tonnage.

A Federal Register Notice with a 60-day comment period soliciting comments on the following information collection was published on October 25, 2018 (Federal Register 53953, Vol. 83, No. 207).

DATES: Comments must be submitted on or before April 1, 2019.

ADDRESSES: Send comments regarding the burden estimate, including suggestions for reducing the burden, to the Office of Management and Budget, Attention: Desk Officer for the Office of the Secretary of Transportation, 725 17th Street NW, Washington, DC 20503.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Jan Downing, 202-366-0783, Office of Cargo and Commercial Sealift, Maritime Administration, U.S. Department of Transportation, 1200 New Jersey Avenue SE, Room W23-308, Washington, DC 20590.

SUPPLEMENTARY INFORMATION:

Title: Monthly Report of Ocean Shipments Moving Under Export-Import Bank Financing.

OMB Control Number: 2133-0013.

Type of Request: Renewal of a Previously Approved Information Collection.

Abstract: The information collection will be used by MARAD to monitor compliance with the cargo preference laws by parties covered under PR 17 and 46 CFR part 381. In addition, MARAD will use the information to compile annual information on Export-Import Bank-financed shipments, and when applicable, to provide for an informal grievance procedure, in the event there is a question or complaint pertaining to cargo preference matters.

The monthly shipping reports, with substantiating documents, will provide the only basis for MARAD to exercise its legislative responsibility to monitor Export-Import Bank-financed cargoes that are transported on U.S.-flag vessels, recipient flag vessels and on third-flag vessels according to the determinations and certifications of vessel non-availability that have been granted. The compilation of the statistics from the shipping reports forms the basis for determining compliance with PR 17 for each loan participant. This information is also provided to the Export-Import Bank, and is the nucleus for conducting annual reviews of the shipping activities of the Export-Import Bank programs.

MARAD uses the information collected as part of the Transparency Initiative to share with the Export-Import Bank. MARAD also intends to use the information to assist Ex-Im Bank shippers with finding suitable U.S.-flag vessels and in support of the determinations MARAD makes with respect to requests from Export-Import Bank shippers for certifications of non-availability.

Respondents: All Export-Import Bank loan and certain loan guarantee recipients and designated representatives charged with the responsibility of monthly and annual reporting. These can be a contractor, ocean transportation intermediary, supplier, etc.

Affected Public: Business and/or other for Profit.

Estimated Number of Respondents: 28.

Estimated Number of Responses: 364.

Estimated Hours per Response: 1.5.

Annual Estimated Total Annual Burden Hours: 196.

Frequency of Response: Monthly.

(Authority: The Paperwork Reduction Act of 1995; 44 U.S.C. Chapter 35, as amended; and 49 CFR 1.93.)

* * * * *

Dated: February 26, 2019.
By Order of the Maritime Administrator.
T. Mitchell Hudson, Jr.,
Secretary, Maritime Administration.

[FR Doc. 2019-03692 Filed 2-28-19; 8:45 am]

BILLING CODE 4910-81-P